DEPARTMENT OF HEALTH AND HUMAN SERVICES

Centers for Disease Control and Prevention

Informational Meeting: The Importation of Infectious Biological Agents, Infectious Substances and Vectors; Public Webinar

AGENCY: Centers for Disease Control and Prevention (CDC), Department of Health and Human Services (HHS).

ACTION: Notice of public webinar.

SUMMARY: The Centers for Disease Control and Prevention (CDC), Department of Health and Human Services (HHS) is hosting a public webinar to address import permit regulations for infectious biological agents, infectious substances, and vectors. Besides the CDC, presenters for this webinar may include representatives from the Department of Transportation, Department of Agriculture and Department of Homeland Security.

DATES: The webinar will be held December 3, 2020 from 11 a.m. to 4 p.m. (EST). Registration instructions are found on the HHS/CDC Import Permit Program website, https://www.cdc.gov/cpr/ipp/index.htm.

ADDRESSES: The webinar will be broadcast from the Centers for Disease Control and Prevention, 1600 Clifton Road NE, Atlanta, Georgia 30329.

FOR FURTHER INFORMATION CONTACT: Samuel S. Edwin, Director, Division of Select Agents and Toxins, CDC, 1600 Clifton Road NE, Mailstop H-21-7, Atlanta, Georgia 30329. Telephone: (404) 718-2000.

SUPPLEMENTARY INFORMATION: This webinar is an opportunity for all interested parties (e.g., academic institutions; biomedical centers; commercial manufacturing facilities; federal, state, and local laboratories, including clinical and diagnostic laboratories; research facilities; exhibition facilities; and educational facilities) to obtain specific guidance and information regarding import permit regulations and shipping infectious biological materials. The webinar will also provide assistance to those interested in applying for an import permit from federal agencies within the United States. Instructions for registration are found on the CDC Import Permit Program website, https://www.cdc.gov/cpr/ipp/index.htm.

Participants must register by November 30, 2020. This is a webinar-only event and there will be no on-site participation at the CDC broadcast facility.

Dated: September 23, 2020.
Sandra Cashman,
Executive Secretary, Centers for Disease Control and Prevention.

[FR Doc. 2020-21335 Filed 9-25-20; 8:45 am]

BILLING CODE 4163-18-P